DEPARTMENT OF AGRICULTURE

Rural Housing Service

7 CFR Part 1980

[FR Doc. E8-25849]

RIN 0575-AC73

Income Limit Modification

AGENCY: Rural Housing Service, USDA.

ACTION: Direct final rule; change in effective date.

SUMMARY: The Rural Housing Service is delaying the effective date of a direct final rule, which was published on November 4, 2008 to amend its existing income limit structure for the Single Family Housing Guaranteed Loan Program.

DATES: The effective date of the direct final rule, published on November 4, 2008 [73 FR 65503-05], is delayed from January 20, 2009, to March 20, 2009.

FOR FURTHER INFORMATION CONTACT: Joaquín Tremols, Acting Director, Single Family Housing Guaranteed Loan Division, USDA, Rural Development, 1400 Independence Avenue, SW., Room 2250, Stop 0784, Washington, DC 20250, telephone (202) 720-1465, E-mail: joaquin.tremols@wdc.usda.gov.

SUPPLEMENTARY INFORMATION: After further consultations with Congress and to afford the new administration adequate time for review, RHS is changing the effective date of the direct final rule to March 20, 2009.

Dated: January 8, 2009.
Peter D. Morgan,
Associate Administrator, Rural Housing Service.

[FR Doc. E9-694 Filed 1-13-09; 8:45 am]

BILLING CODE 3410-XV-P